DEPARTMENT OF COMMERCE

International Trade Administration

[A-489-807]

Certain Steel Concrete Reinforcing Bars From Turkey; Corrected Final Results of Antidumping Duty Administrative Review

AGENCY: Import Administration, International Trade Administration, Department of Commerce.

ACTION: Correction to final results of antidumping duty administrative review.

EFFECTIVE DATE: November 26, 2004.

FOR FURTHER INFORMATION CONTACT: Irina Itkin or Elizabeth Eastwood, Office of AD/CVD Enforcement, Office 2, Import Administration, International Trade Administration, U.S. Department of Commerce, 14th Street and Constitution Avenue, NW., Washington, DC, 20230; telephone (202) 482-0656 and (202) 482-3874, respectively.

Background

On November 8, 2004, the Department of Commerce (the Department) published in the Federal Register its notice of final results of the antidumping duty administrative review on certain steel concrete reinforcing bars (rebar) from Turkey for the period April 1, 2002, through March 31, 2003. See Certain Steel Concrete Reinforcing Bars From Turkey; Final Results, Rescission of Antidumping Duty Administrative Review in Part, and Determination Not To Revoke in Part, 69 FR 64731 (Nov. 8, 2004) (Final Results). In the calculations for the final results, the Department determined that Colakoglu Metalurji A.S. (Colakoglu), a respondent in this administrative review, made no home market sales below the cost of production during the period of review (POR). However, the Department mistakenly stated in the Final Results that Colakoglu made below-cost sales not in the ordinary course of trade. See Final Results, 69 FR at 64733.

We now correct the final results of the 2002-2003 antidumping duty administrative review of rebar from Turkey as noted above. As a result of this correction, we find that Colakoglu made no sales below cost during the POR.

These corrected final results are issued and published in accordance with sections 751(a)(1) and 777(i)(1) of the Tariff Act of 1930, as amended.

Dated: November 19, 2004.
Joseph A. Spetrini,
Acting Assistant Secretary for Import Administration.

[FR Doc. E4-3341 Filed 11-24-04; 8:45 am]

BILLING CODE 3510-DS-P